DEPARTMENT OF HEALTH AND HUMAN SERVICES

National Institutes of Health

Center for Scientific Review; Amended Notice of Meeting

Notice is hereby given of a change in the meeting of the Center for Scientific Review Special Emphasis Panel, June 23, 2011, 8:30 a.m. to June 24, 2011, 5 p.m., West Chicago Lakeshore, 644 North Lake Shore Drive, Chicago, IL, 60611 which was published in the Federal Register on May 12, 2011, 76 FR 27652-27653.

The meeting will be one day only June 24, 2011, from 8 a.m. to 5 p.m. The meeting location remains the same. The meeting is closed to the public.

Dated: May 17, 2011.
Jennifer S. Spaeth,
Director, Office of Federal Advisory Committee Policy.

[FR Doc. 2011-12729 Filed 5-23-11; 8:45 am]

BILLING CODE 4140-01-P